DEPARTMENT OF VETERANS AFFAIRS

[OMB Control No. 2900-0154]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before December 15, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0154.”

Send comments and recommendations concerning any aspect of the information collection to VA's OMB Desk Officer, OMB Human Resources and Housing Branch, New Executive Office Building, Room 10235, Washington, DC 20503 (202) 395-7316. Please refer to “OMB Control No. 2900-0154” in any correspondence.

SUPPLEMENTARY INFORMATION:

Title: Certification of Lessons Completed, (Chapters 30, 32, and 35, Title 38, U.S.C.; Chapter 1606, Title 10, U.S.C., and Section 903, Public Law 96-343), VA Form 22-1990.

Type of Review: Revision of a currently approved collection.

Abstract: VA Forms 22-1990 is submitted by Veterans, Servicepersons and members of the Selected Reserve to apply for education assistance allowance under chapter 30 and 32, title 38 U.S.C.; chapter 1605, title 10, U.S.C.; and section 903 of Public Law 96-342. VA uses this information to determine the applicant's eligibility for benefits.

An agency may not conduct or sponsor, and a person is not required to respond to a collection of information unless it displays a currently valid OMB control number. The Federal Register Notice with a 60-day comment period soliciting comments on this collection of information was published on September 2, 2003, at pages 52272-52273.

Affected Public: Individuals or households.

Estimated Annual Burden: 72,000 hours.

Estimated Average Burden Per Respondent: 54 minutes.

Frequency of Response: Only once.

Estimated Number of Respondents: 80,000.

Dated: November 3, 2003. By direction of the Secretary.
Jacqueline Parks,
IT Specialist, Records Management Service.

[FR Doc. 03-28363 Filed 11-12-03; 8:45 am]

BILLING CODE 8320-01-P